DEPARTMENT OF COMMERCE

National Oceanic and Atmospheric Administration

RIN 0648-XD949

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The NMFS Assistant Regional Administrator for Sustainable Fisheries, Greater Atlantic Region, has made a preliminary determination that an Exempted Fishing Permit application contains all of the required information and warrants further consideration. This Exempted Fishing Permit would allow commercial lobster vessels to participate in a lobster growth and abundance study, under the direction of Massachusetts Division of Marine Fisheries in state and Federal waters off the coast of Massachusetts.

Regulations under the Magnuson-Stevens Fishery Conservation and Management Act and the Atlantic Coastal Fisheries Cooperative Management Act require publication of this notification to provide interested parties the opportunity to comment on Exempted Fishing Permit applications.

DATES: Comments must be received on or before May 2, 2017.

ADDRESSES: You may submit written comments by any of the following methods:

• Email: NMFS.GAR.EFP@noaa.gov. Include in the subject line “Comments on MA DMF Lobster Study EFP.”

• Mail: John K. Bullard, Regional Administrator, NMFS, Greater Atlantic Regional Fisheries Office, 55 Great Republic Drive, Gloucester, MA 01930. Mark the outside of the envelope “Comments on MA DMF Lobster Study EFP.”

FOR FURTHER INFORMATION CONTACT: Sustainable Fisheries Division, 978-281-9315.

SUPPLEMENTARY INFORMATION: The Massachusetts Division of Marine Fisheries (MA DMF) submitted a complete application for an Exempted Fishing Permit (EFP) to conduct a two-year lobster abundance survey with modified lobster gear that Federal regulations would otherwise restrict. The purpose of this lobster study is to provide fishery-independent data on lobster abundance in Massachusetts state waters of statistical area 514, from Ipswich Bay south to Cape Cod Bay; and state and Federal waters of Buzzards Bay, Vineyard Sound, and nearshore portions of Rhode Island Sound, in statistical areas 537 and 538. Currently, lobster abundance and distribution studies are primarily conducted through fishery-independent, random-stratified bottom-trawl surveys. MA DMF has stated that trawl surveys lack the capability to efficiently target areas with rocky bottom where lobsters also reside, and is seeking an EFP to use fixed lobster gear to sample such areas.

The EFP would authorize commercial lobster vessels to set, haul, and retain on board lobster traps without escape vents during sampling activity. Following a soak time ranging from 3 to 5 days, these lobster traps would be hauled twice per month on dedicated sampling trips, with at least one scientist from MA DMF on board during sampling activity. During sampling trips, no catch will be retained for sale.

MA DMF requests exemption from lobster gear regulations to allow for traps without escape vents in order to catch lobsters of all sizes. MA DMF is also requesting exemption from lobster trap limits. This would allow participating vessels to retain on-board survey lobster traps that may cause vessels to exceed their permitted allocation for Lobster Management Area (LMA) 1 (800 trap limit) or LMA 2 (historical qualification up to 800 trap limit). Federal lobster regulations require each active lobster trap to have a commercial trap tag permanently affixed. MA DMF is requesting exemption from this requirement because survey traps will be tagged with “MA DMF Research Trap.”

MA DMF is also requesting exemption from the management area designation requirement to allow one Federal lobster permit holder to fish experimental traps in LMA 2 while having an LMA 3 designation on his Federal permit. This exemption would allow the vessel to set survey traps in an area not designated on his permit. This exemption would not allow him to commercially fish and/or land lobsters caught with traps in LMA 2.

Site selection would be based on a random stratified sampling design, consistent with standardized methodology used to perform lobster surveys. All catch during dedicated research trips would be retained on-board for a short period of time to allow MA DMF staff to record the following information: Number of lobsters caught; number of traps hauled; set-over days; trap and bait type; lobster carapace length; sex; shell hardness; culls and other shell damage; external gross pathology including symptoms of shell disease; mortality; and ovigerous status. MA DMF is requesting exemption from management measures of LMA 1 and 2 for lobster size restrictions, v-notch possession, and egg-bearing lobster possession. MA DMF plans on retaining a small amount of lobsters for growth and maturity research purposes.

If approved, MA DMF may request minor modifications and extensions to the EFP throughout the study. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 11, 2017.
Karen H. Abrams,
Acting Deputy Director, Office of Sustainable Fisheries, National Marine Fisheries Service.

[FR Doc. 2017-07713 Filed 4-14-17; 8:45 am]

BILLING CODE 3510-22-P